DEPARTMENT OF TRANSPORTATION

Federal Highway Administration

Environmental Impact Statement: Butler County, PA

AGENCY: Federal Highway Administration (FHWA), DOT.

ACTION: Cancellation of the notice of intent.

SUMMARY: This notice rescinds the previous Notice of Intent (issued October 3, 2001—Vol. 66, No. 192) to prepare an Environmental Impact Statement for a proposed highway project in Butler County.

FOR FURTHER INFORMATION CONTACT: David W. Cough, P.E., Director of Operations, Federal Highway Administration, Pennsylvania Division Office, 228 Walnut Street, Room 508, Harrisburg, PA 17101-1720, Telephone (717) 221-3411-OR-Brian Allen, Assistant District Engineer for Design, Pennsylvania Department of Transportation, District 10-0, 2550 Oakland Avenue, P.O. Box 429, Indiana, PA, 15701, Telephone (724) 357-2077.

SUPPLEMENTARY INFORMATION: Additional traffic analyses have indicated that all project alternatives can be down-scoped with little or no significant impact to the environment. An Environmental Assessment will be pursued, based on a revised project scoping.

(Catalog of Federal Domestic Assistance Program Number 20.205, Highway Planning and Construction. The regulations implementing Executive Order 12372 regarding intergovernmental consultation on Federal programs and activities apply to this program.)
James A. Cheatham,
FHWA Division Administrator, Harrisburg, PA.

[FR Doc. 06-3988 Filed 4-26-06; 8:45am]

BILLING CODE 4910-22-M